DEPARTMENT OF ENERGY

Federal Energy Regulatory Commission

Combined Notice of Filings #1

Take notice that the Commission received the following exempt wholesale generator filings:

Docket Numbers: EG23-264-000.

Applicants: North Bend Wind Project, LLC.

Description: North Bend Wind Project, LLC submits Notice of Self-Certification of Exempt Wholesale Generator Status.

Filed Date: 8/25/23.

Accession Number: 20230825-5228.

Comment Date: 5 p.m. ET 9/15/23.

Docket Numbers: EG23-265-000.

Applicants: Five Wells Storage LLC.

Description: Five Wells Storage LLC submits Notice of Self-Certification of Exempt Wholesale Generator Status.

Filed Date: 8/28/23.

Accession Number: 20230828-5346.

Comment Date: 5 p.m. ET 9/18/23.

Take notice that the Commission received the following electric rate filings:

Docket Numbers: ER10-1728-016.

Applicants: The Dayton Power and Light Company.

Description: Notice of Change in Status of The Dayton Power and Light Company, et al.

Filed Date: 8/24/23.

Accession Number: 20230824-5196.

Comment Date: 5 p.m. ET 9/14/23.

Docket Numbers: ER16-2095-006.

Applicants: Midwest Generation, LLC.

Description: Compliance filing: Informational Filing Regarding Upstream Transfer of Ownership to be effective N/A.

Filed Date: 8/28/23.

Accession Number: 20230828-5285.

Comment Date: 5 p.m. ET 9/18/23.

Docket Numbers: ER22-983-005.

Applicants: ISO New England Inc., New England Power Pool Participants Committee.

Description: Compliance filing: ISO New England Inc. submits tariff filing per 35: ISO-NE/NEPOOL; One Hundred Eighty-Day Informational Comp. Filing Order 2222 to be effective 3/1/2024.

Filed Date: 8/28/23.

Accession Number: 20230828-5370.

Comment Date: 5 p.m. ET 9/18/23.

Docket Numbers: ER23-973-002.

Applicants: New York Independent System Operator, Inc., Niagara Mohawk Power Corporation.

Description: Compliance filing: New York Independent System Operator, Inc. submits tariff filing per 35: NMPC Compliance Filing in response to July 28 Order re: SPC Project to be effective 4/1/2023.

Filed Date: 8/28/23.

Accession Number: 20230828-5294.

Comment Date: 5 p.m. ET 9/18/23.

Docket Numbers: ER23-1996-001.

Applicants: PJM Interconnection, L.L.C.

Description: Compliance filing: Compliance Filing on Update to Definition of Emergency Action in ER23-1996 to be effective 7/30/2023.

Filed Date: 8/28/23.

Accession Number: 20230828-5336.

Comment Date: 5 p.m. ET 9/18/23.

Docket Numbers: ER23-2144-001.

Applicants: Southwest Power Pool, Inc.

Description: Tariff Amendment: 1883R12 Evergy Kansas Central, Inc. NITSA NOA to be effective 9/1/2023.

Filed Date: 8/28/23.

Accession Number: 20230828-5308.

Comment Date: 5 p.m. ET 9/18/23.

Docket Numbers: ER23-2157-001.

Applicants: Southwest Power Pool, Inc.

Description: Tariff Amendment: 1887R13 Evergy Kansas Central, Inc. NITSA NOA to be effective 9/1/2023.

Filed Date: 8/28/23.

Accession Number: 20230828-5320.

Comment Date: 5 p.m. ET 9/18/23.

Docket Numbers: ER23-2159-001.

Applicants: Southwest Power Pool, Inc.

Description: Tariff Amendment: 1889R12 Evergy Kansas Central, Inc. NITSA NOA to be effective 9/1/2023.

Filed Date: 8/28/23.

Accession Number: 20230828-5326.

Comment Date: 5 p.m. ET 9/18/23.

Docket Numbers: ER23-2160-001.

Applicants: Southwest Power Pool, Inc.

Description: Tariff Amendment: 1891R12 Evergy Kansas Central, Inc. NITSA NOA to be effective 9/1/2023.

Filed Date: 8/28/23.

Accession Number: 20230828-5333.

Comment Date: 5 p.m. ET 9/18/23.

Docket Numbers: ER23-2163-001.

Applicants: Southwest Power Pool, Inc.

Description: Tariff Amendment: 1897R13 Evergy Kansas Central, Inc. NITSA NOA to be effective 9/1/2023.

Filed Date: 8/28/23.

Accession Number: 20230828-5339.

Comment Date: 5 p.m. ET 9/18/23.

Docket Numbers: ER23-2612-002.

Applicants: PJM Interconnection, L.L.C.

Description: Tariff Amendment: Errata to Revisions to Cost Responsibility Assignments for RTEP in ER23-2612 to be effective 11/9/2023.

Filed Date: 8/25/23.

Accession Number: 20230825-5185.

Comment Date: 5 p.m. ET 9/15/23.

Docket Numbers: ER23-2639-001.

Applicants: NRG Business Marketing LLC.

Description: Compliance filing: Informational Filing Regarding Upstream Transfer of Ownership to be effective N/A.

Filed Date: 8/28/23.

Accession Number: 20230828-5275.

Comment Date: 5 p.m. ET 9/18/23.

Docket Numbers: ER23-2711-000.

Applicants: California Independent System Operator Corporation.

Description: § 205(d) Rate Filing: 2023-08-25 PLA No. 5 Time Ext—CDWR to be effective 11/1/2023.

Filed Date: 8/25/23.

Accession Number: 20230825-5181.

Comment Date: 5 p.m. ET 9/15/23.

Docket Numbers: ER23-2712-000.

Applicants: North Bend Wind Project, LLC.

Description: Baseline eTariff Filing: Application for Market-Based Rate Authorization, Request for Related Waivers to be effective 10/25/2023.

Filed Date: 8/25/23.

Accession Number: 20230825-5206.

Comment Date: 5 p.m. ET 9/15/23.

Docket Numbers: ER23-2713-000.

Applicants: PJM Interconnection, L.L.C.

Description: § 205(d) Rate Filing: Original ISA, Service Agreement No. 7049; Queue No. AE1-163/AE2-281 to be effective 7/27/2023.

Filed Date: 8/28/23.

Accession Number: 20230828-5136.

Comment Date: 5 p.m. ET 9/18/23.

Docket Numbers: ER23-2714-000.

Applicants: PJM Interconnection, L.L.C.

Description: § 205(d) Rate Filing: Revisions to the PJM Tariff, OA and RAA RE GDECS Clean-Up to be effective 10/28/2023.

Filed Date: 8/28/23.

Accession Number: 20230828-5357.

Comment Date: 5 p.m. ET 9/18/23.

Docket Numbers: ER23-2715-000.

Applicants: PJM Interconnection, L.L.C.

Description: § 205(d) Rate Filing: First Revised ISA, Service Agreement No. 4940; Queue No. AE2-034 to be effective 7/27/2023.

Filed Date: 8/28/23.

Accession Number: 20230828-5364.

Comment Date: 5 p.m. ET 9/18/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: August 28, 2023.
Debbie-Anne A. Reese,
Deputy Secretary.

[FR Doc. 2023-18963 Filed 8-31-23; 8:45 am]

BILLING CODE 6717-01-P